DEPARTMENT OF LABOR

Employment and Training Administration

[TA-W-51,874]

Flow Controls, St. Louis, MO; Notice of Termination of Investigation

Pursuant to section 221 of the Trade Act of 1974, as amended, an investigation was initiated on May 28, 2003, in response to a worker petition filed by a company official on behalf of workers at Flow Controls, St. Louis, Missouri.

The petitioner has requested that the petition be withdrawn. Consequently, the investigation has been terminated.

Signed at Washington, DC this 29th day of May 2003
Richard Church,
Certifying Officer, Division of Trade Adjustment Assistance.

[FR Doc. 03-15470 Filed 6-18-03; 8:45 am]

BILLING CODE 4510-30-P